DEPARTMENT OF ENERGY

Federal Energy Regulatory Commission

[Project No. 12585-001]

Golden Gate Energy Company; Notice of Preliminary Permit Applications Accepted for Filing and Soliciting Comment, Motions To Intervene, and Competing Applications

October 9, 2008.

On October 1, 2008, Golden Gate Energy Company filed an application, pursuant to section 4(f) of the Federal Power Act, proposing to study the feasibility of the San Francisco Bay Tidal Project, to be located on the San Francisco Bay in San Francisco and Marin Counties, California.

The proposed San Francisco Bay Tidal Project consists of: (1) 5 to 40 proposed Tides Hydrokinetic generating units having a total installed capacity of 5 to 10 megawatts, (2) a proposed transmission line, and (3) appurtenant facilities. The Golden Gate Energy Company project would have an average annual generation of 8.7 gigawatt-hours and be sold to a local utility.

Applicant Contact: Mr. Mike Hoover, Golden Gate Energy Company, 1785 Massachusetts Avenue, NW., Suite 100, Washington, DC 20036, phone (202) 772-0099.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-12585) in the docket number field to access the document. For assistance, call toll-free 1-866-208-3372.

Kimberly D. Bose,
Secretary.

[FR Doc. E8-24709 Filed 10-16-08; 8:45 am]

BILLING CODE 6717-01-P